DEPARTMENT OF HEALTH AND HUMAN SERVICES

Centers for Disease Control and Prevention

[Docket Number CDC-2022-0078, NIOSH-345-A]

Draft—American Indian and Alaska Native Worker Safety and Health Strategic Plan

AGENCY: The Centers for Disease Control and Prevention (CDC), Department of Health and Human Services (HHS).

ACTION: Request for information and comment.

SUMMARY: The National Institute for Occupational Safety and Health (NIOSH) in the Centers for Disease Control and Prevention (CDC), an Operating Division of the Department of Health and Human Services (HHS), announces the availability of a draft strategic plan for public comment entitled Revised Draft of American Indian and Alaska Native Worker Safety and Health Strategic Plan (Revised Draft Strategic Plan).

DATES: Electronic or written comments must be received by August 29, 2022.

ADDRESSES: You may submit comments, identified by CDC-2022-0078 and docket number NIOSH-345-A, by either of the following methods:

• Federal eRulemaking Portal: https://www.regulations.gov. Follow the instructions for submitting comments.

• Mail: National Institute for Occupational Safety and Health, NIOSH Docket Office, 1090 Tusculum Avenue, MS C-34, Cincinnati, Ohio 45226-1998.

Instructions: All information received in response to this notice must include the agency name and docket number [CDC-2022-0078; NIOSH-345-A]. Comments will be posted on https://www.regulations.gov. Therefore, do not include any information in your comment or supporting materials that you consider confidential or inappropriate for public disclosure. CDC will review all submissions and may choose to redact, or withhold, submissions containing private or proprietary information such as Social Security numbers, medical information, inappropriate language, or duplicate/near duplicate examples of a mass-mail campaign. Do not submit comments by email. CDC does not accept comments by email. For access to the docket to read background documents or comments received, go to https://www.regulations.gov.

FOR FURTHER INFORMATION CONTACT: Elizabeth Dalsey, NIOSH Western States Division, P.O. Box 25226, Denver, Colorado 80225-0226; Telephone: (303)236-5955; Email: edalsey@cdc.gov.

SUPPLEMENTARY INFORMATION:

Background: On November 30, 2021, the National Institute for Occupational Safety and Health (NIOSH), within the Centers for Disease Control and Prevention (CDC), published a notice of meeting and request for testimony in the Federal Register [Federal Register Number 2021-26016] [86 FR 67949]. The Federal Register notice announced a CDC Tribal Consultation Session that was held on February 3, 2022. CDC/NIOSH hosted American Indian and Alaska Native (AI/AN) federally recognized tribes for a virtual tribal consultation session on the NIOSH draft strategic plan entitled American Indian and Alaska Native Worker Safety and Health Strategic Plan. NIOSH accepted written tribal testimony until February 24, 2022. The consultation session was held in accordance with Presidential Executive Order No. 13175, November 6, 2000, and the Presidential Memorandum of November 5, 2009, and September 23, 2004, Consultation and Coordination with Indian Tribal Government, and CDC/ATSDR's Tribal Consultation Policy which can be found at https://www.cdc.gov/tribal/documents/consultation/policy475.pdf. NIOSH carefully considered the oral comments from the Tribal Consultation Session and the written comments submitted to the Tribal Consultation Session docket, https://www.cdc.gov/niosh/docket/archive/docket345/default.html. Based on the pertinent comments received, NIOSH has developed the Revised Draft Strategic Plan on which public comment is now being requested.

NIOSH guided the development of this strategic plan and hopes the strategic plan will serve as a blueprint to enhance the health, safety, and well-being of AI/AN workers across the United States. NIOSH, tribes, tribal-serving organizations, and other interested partners can work collaboratively to accomplish the objectives outlined in the strategic plan.

AI/AN workers account for 2.7 million or 1.8% of the total U.S. workforce.¹ These workers are employed in a wide variety of occupations, with the highest numbers in office and administrative support, sales and related occupations, management, transportation, and material moving, and food preparation and serving. Many AI/AN workers are also employed through tribal enterprises such as medical care, housing, manufactured products, food production, livestock, and tourism. Tribes are often the largest employer on tribal lands.

National data on occupational injuries, illnesses, and fatalities among AI/AN workers are scarce, and there is limited research on worker safety, health, and well-being in tribal communities. Given the lack of data, the true numbers are likely much higher.

NIOSH requests input on this strategic plan for research and outreach to enhance worker safety and health in tribal communities.

Information Needs: Additional data and information are needed to ensure the Revised Draft Strategic Plan addresses research and outreach that is most critical for understanding and reducing work-related injuries, illnesses, and fatalities among AI/AN workers. NIOSH seeks comments on the following:

1. Does the Revised Draft Strategic Plan address the most pressing occupational safety and health concerns for the AI/AN workforce? If not, what would you suggest be included or removed, and why? Please provide details on other health concerns considered pressing (e.g., type, prevalence, economic burden), including the reasoning for the suggestion that the health and safety concern be included or excluded from the Revised Draft Strategic Plan.

2. What recommendations do you have for NIOSH for partnering with tribal nations to conduct the activities described in this plan? Please explain the basis for your suggestion(s), such as past experiences, subject matter expertise, or collaborations on other efforts.

3. What other organizations may have an interest in collaborating with NIOSH to improve occupational safety and health for AI/AN workers? Please explain the basis of your suggestion(s) such as past experiences, subject matter expertise, or a shared mission or vision.

4. How might NIOSH improve communication with tribal nations regarding worker safety and health issues? Please include examples of the type of communication material and channel.

5. What support may be needed to address occupational safety and health concerns for the AI/AN workforce? Please provide details explaining how the support will benefit the AI/AN workforce.

John J. Howard,
Director, National Institute for Occupational Safety and Health Centers for Disease Control and Prevention.

[FR Doc. 2022-13723 Filed 6-27-22; 8:45 am]

BILLING CODE 4163-18-P